NUCLEAR REGULATORY COMMISSION

Advisory Committee on Reactor Safeguards; Meeting Notice

In accordance with the purposes of Sections 29 and 182b of the Atomic Energy Act (42 U.S.C. 2039, 2232b), the Advisory Committee on Reactor Safeguards (ACRS) will hold a meeting on October 7-9, 2004, 11545 Rockville Pike, Rockville, Maryland. The date of this meeting was previously published in the Federal Register on Monday, November 21, 2003 (68 FR 65743).

Thursday, October 7, 2004, Conference Room T-2B3, Two White Flint North, Rockville, Maryland

8:30 a.m.-8:35 a.m.: Opening Remarks by the ACRS Chairman (Open)—The ACRS Chairman will make opening remarks regarding the conduct of the meeting.

8:35 a.m.-10:45 a.m.: Safety Evaluation of the Industry Guidelines Related to Pressurized Water Reactor (PWR) Sump Performance (Open)—The Committee will hear presentations by and hold discussions with representatives of the NRC staff and the Nuclear Energy Institute regarding the staff's evaluation of the industry guidelines associated with the resolution of Generic Safety Issue (GSI)-191, “Potential Impact of Debris Blockage on Emergency Recirculation During Design-Basis Accidents at PWRs” and related matters.

11 a.m.-12:30 p.m.: Pre-Application Safety Assessment Report for the Advanced CANDU 700 (ACR-700) Design (Open)—The Committee will hear presentations by and hold discussions with representatives of the NRC staff regarding the staff's Safety Assessment Report related to the pre-application review of the ACR-700 design and related matters.

1:30 p.m.-3 p.m.: Proposed Recommendations for Resolving GSI-185, “Control of Recriticality Following Small-Break LOCAs in PWRs” (Open)—The Committee will hear presentations by and hold discussions with representatives of the NRC staff and its contractors regarding the proposed recommendations for resolving GSI-185.

3:15 p.m.-4:45 p.m.: Mitigating System Performance Index Program (Open)—The Committee will hear presentations by and hold discussions with representatives of the NRC staff regarding the Mitigating System Performance Index Program.

5 p.m.-7 p.m.: Preparation of ACRS Reports (Open)—The Committee will discuss proposed ACRS reports on matters considered during this meeting. In addition, the Committee will discuss a proposed report responding to the August 25, 2004 EDO response to the May 21, 2004 ACRS letter on resolution of certain items identified by the ACRS in NUREG-1740, “Voltage-Based Alternative Repair Criteria.”

Friday, October 8, 2004, Conference Room T-2B3, Two White Flint North, Rockville, Maryland

8:30 a.m.-8:35 a.m.: Opening Remarks by the ACRS Chairman (Open)—The ACRS Chairman will make opening remarks regarding the conduct of the meeting.

8:35 a.m.-10 a.m.: Technology Neutral Framework for Future Plant Licensing (Open)—The Committee will hear presentations by and hold discussions with representatives of the NRC staff regarding the technology neutral framework for licensing of future plant designs.

10:15 a.m.-11:30 a.m.: Assessment of the Quality of the NRC Research Projects (Open)—The Committee will discuss the preliminary results of the cognizant ACRS members' assessment of the research projects on Sump Blockage and on MACCS code.

11:30 a.m.-12:15 p.m.: Divergence in Regulatory Approaches and Requirements Between U.S. and Other Countries (Open)—The Committee will discuss the draft Final White Paper prepared by Dr. Nourbakhsh, ACRS Senior Staff Engineer, regarding divergence in regulatory approaches and requirements between U.S. and other Countries.

1:15 p.m.-2:15 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:15 p.m.-2:30 p.m.: Reconciliation of ACRS Comments and Recommendations (Open)—The Committee will discuss the responses from the NRC Executive Director for Operations (EDO) to comments and recommendations included in recent ACRS reports and letters. The EDO responses are expected to be made available to the Committee prior to the meeting.

2:45 p.m.-7 p.m.: Preparation of ACRS Reports (Open)—The Committee will discuss proposed ACRS reports.

Saturday, October 10, 2004, Conference Room T-2B3, Two White Flint North, Rockville, Maryland

8:30 a.m.-2 p.m.: Preparation of ACRS Reports (Open)—The Committee will continue its discussion of proposed ACRS reports.

2 p.m.-2:30 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: September 16, 2004.
Annette Vietti-Cook,
Secretary of the Commission.

[FR Doc. 04-21258 Filed 9-21-04; 8:45 am]

BILLING CODE 7590-01-P